NATIONAL CREDIT UNION ADMINISTRATION

Notice of Meeting

Time and Date: 10 a.m., Thursday, May 24, 2007.

Place: Board Room, 7th Floor, Room 7047, 1775 Duke Street, Alexandria, VA 22314-3428.

Status: Open.

Matters to be Considered:

1. Proposed Rule: Section 701.2 of NCUA's Rules and Regulations, Federal Credit Union Bylaws.

2. Proposed Rule: Interpretive Ruling and Policy Statement (IRPS) 07-1, Section 701.1 of NCUA's Rules and Regulations, Amendments to NCUA's Chartering and Field of Membership Policies.

3. Final Rule: Part 701 of NCUA's Rules and Regulations, Technical Amendments.

Recess: 11:15 a.m.

Time and Date: 11:30 a.m., Thursday, May 24, 2007.

Place: Board Room, 7th Floor, Room 7047, 1775 Duke Street, Alexandria, VA 22314-3428.

Status: Closed.

Matters to be Considered:

1. Action under Section 205 of the Federal Credit Union Act. Closed pursuant to Exemptions (6), (7), and (8).

For Further Information Contact: Mary Rupp, Secretary of the Board, Telephone: 703-518-6304.

Mary Rupp,
Secretary of the Board.

[FR Doc. 07-2548 Filed 5-17-07; 2:15 am]

BILLING CODE 7535-01-M